DEPARTMENT OF THE INTERIOR

Bureau of Land Management

[OR-130-1020-PH; GP3-0299]

Notice of Public Meeting, Eastern Washington Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Eastern Washington Resource Advisory Council (RAC), will meet as indicated below.

DATES: The Eastern Washington Resource Advisory Council (EWRAC) will meet on October 20, 2003, at the Spokane District Office, Bureau of Land Management, 1103 North Fancher Road, Spokane, Washington, 99212-1275.

SUPPLEMENTARY INFORMATION: The meeting will start at 9 a.m. and adjourn about 4 p.m. Topics on the meeting agenda include:

• Sustaining Working Landscapes Initiative.

• Sagebrush Conservation Strategy.

• Washington State Land Exchange.

The RAC meeting is open to the public, and there will be an opportunity for public comment between 11 a.m. and 12 noon. Information to be distributed to Council members for their review is requested in written format 10 days prior to the Council meeting date.

FOR FURTHER INFORMATION CONTACT: Sandra Gourdin or Kathy Helm, Bureau of Land Management, Spokane District Office, 1103 N. Fancher Road, Spokane, Washington, 99212, or call (509) 536-1200.

Dated: September 25, 2003.
Joseph K. Buesing,
District Manager.

[FR Doc. 03-24834 Filed 9-29-03; 8:45 am]

BILLING CODE 4310-33-P